DEPARTMENT OF TRANSPORTATION

Federal Aviation Administration

14 CFR Part 39

[Docket No. FAA-2020-0063; Product Identifier 2020-NE-01-AD; Amendment 39-19838; AD 2020-01-55]

RIN 2120-AA64

Airworthiness Directives; General Electric Company Turbofan Engines

AGENCY: Federal Aviation Administration (FAA), DOT.

ACTION: Final rule; request for comments.

SUMMARY: The FAA is adopting a new airworthiness directive (AD) for certain General Electric Company (GE) GE90-110B1 and GE90-115B model turbofan engines. This AD was sent previously as an emergency AD to all known U.S. owners and operators of the GE GE90-110B1 and GE90-115B model turbofan engines with certain engine serial numbers. This AD requires the removal from service of the interstage seal, part number 2505M72P01 or 2448M33P01, from the affected engines. This AD was prompted by a recent event involving an uncontained high-pressure turbine (HPT) failure that resulted in an aborted takeoff. The FAA is issuing this AD to address the unsafe condition on these products.

DATES: This AD is effective March 2, 2020 to all persons except those persons to whom it was made immediately effective by Emergency AD 2020-01-55, issued on January 17, 2020, which contained the requirements of this amendment.

The FAA must receive comments on this AD by March 30, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

Examining the AD Docket

You may examine the AD docket on the internet at https://www.regulations.gov by searching for and locating Docket No. FAA-2020-0063; or in person at Docket Operations between 9 a.m. and 5 p.m., Monday through Friday, except Federal holidays. The AD docket contains this final rule, the regulatory evaluation, any comments received, and other information. The street address for Docket Operations is listed above. Comments will be available in the AD docket shortly after receipt.

FOR FURTHER INFORMATION CONTACT: Matthew C. Smith, Aerospace Engineer, ECO Branch, FAA, 1200 District Avenue, Burlington, MA 01803; phone: 781-238-7735; fax: 781-238-7199; Email: matthew.c.smith@faa.gov.

SUPPLEMENTARY INFORMATION:

Discussion

On January 17, 2020, the FAA issued Emergency AD 2020-01-55, which requires the removal from service of the interstage seal, part number 2505M72P01 or 2448M33P01, from certain serial-numbered GE90-110B1 and GE90-115B model turbofan engines. That emergency AD was sent previously to all known U.S. owners and operators of these affected engines. That action was prompted by investigative findings of an event that occurred on October 20, 2019, in which a Boeing Model 777-300ER airplane, powered by GE GE90-115B model turbofan engines, experienced an uncontained HPT failure resulting in an aborted takeoff. This condition, if not addressed, could result in uncontained HPT failure, release of high-energy debris, damage to the engine, damage to the airplane, and possible loss of the airplane.

FAA's Determination

The FAA is issuing this AD because we evaluated all the relevant information and determined the unsafe condition described previously is likely to exist or develop in other products of the same type design.

AD Requirements

This AD requires the removal from service of the interstage seal, part number 2505M72P01 or 2448M33P01, from the affected engines.

Interim Action

The FAA considers this AD interim action. The root cause of the HPT failure is still being investigated and the FAA will consider further rulemaking depending on the results of the investigation.

FAA's Justification and Determination of the Effective Date

An unsafe condition exists that required the immediate adoption of Emergency AD 2020-01-55, issued on January 17, 2020, to all known U.S. owners and operators of these engines. The FAA found that the risk to the flying public justified waiving notice and comment prior to adoption of this rule because the interstage seal must be removed within 5 flight cycles from the effective date of AD 2020-01-55. Therefore, the FAA finds good cause that notice and opportunity for prior public comment are impracticable. Additionally, the FAA has found the risk to the flying public justifies waiving notice and comment prior to adoption of this rule because no domestic operators use this product. It is unlikely that the FAA will receive any adverse comments or useful information about this AD from U.S. operators. Therefore, the FAA finds good cause that notice and opportunity for prior public comment are unnecessary. These conditions still exist and the AD is hereby published in the Federal Register as an amendment to section 39.13 of the Federal Aviation Regulations (14 CFR 39.13) to make it effective to all persons. For the reasons stated above, the FAA finds that good cause exists for making this amendment effective in less than 30 days.

Comments Invited

This AD is a final rule that involves requirements affecting flight safety and was not preceded by notice and an opportunity for public comment. However, the FAA invites you to send any written data, views, or arguments about this final rule. Send your comments to an address listed under the ADDRESSES section. Include the docket number FAA-2020-0063 and Product Identifier 2020-NE-01-AD at the beginning of your comments. The FAA specifically invites comments on the overall regulatory, economic, environmental, and energy aspects of this final rule. The FAA will consider all comments received by the closing date and may amend this final rule because of those comments.

Except for Confidential Business Information (CBI) as described in the following paragraph, and other information as described in 14 CFR 11.35, the FAA will post all comments received, without change, to https://www.regulations.gov, including any personal information you provide. The FAA will also post a report summarizing each substantive verbal contact received about this AD.

Confidential Business Information

Confidential Business Information (CBI) is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Matthew Smith, Aerospace Engineer, ECO Branch, FAA, 1200 District Avenue, Burlington, MA, 01803. Any commentary that the FAA receives which is not specifically designated as CBI will be placed in the public docket for this rulemaking.

Costs of Compliance

The FAA estimates that this AD affects 0 engines installed on airplanes of U.S. registry.

The FAA estimates the following costs to comply with this AD:

Estimated Costs
Action | Labor cost | Parts cost | Cost per product | Cost on U.S. operators
Remove interstage seal | 100 work-hours × $85 per hour = $8,500 | $509,600 | $518,100 | $0

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to engines, propellers, and associated appliances to the Manager, Engine and Propeller Standards Branch, Policy and Innovation Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-01-55 General Electric Company: Amendment 39-19838; Docket No. FAA-2020-0063; Product Identifier 2020-NE-01-AD.

(a) Effective Date

This AD is effective March 2, 2020 to all persons except those persons to whom it was made immediately effective by Emergency AD 2020-01-55, issued on January 17, 2020, which contained the requirements of this amendment.

(b) Affected ADs

None.

(c) Applicability

This AD applies to all General Electric Company (GE) GE90-110B1 and GE90-115B model turbofan engines with engine serial number 907150, 907152, 907176, 907179, 907192, 907266, 907270, 907301, 907320, 907337, 907344, 907370, 907371, 907405, 907686, or 907687.

(d) Subject

Joint Aircraft System Component (JASC) Code 7250, Turbine Section.

(e) Unsafe Condition

This AD was prompted by investigative findings from an event involving an uncontained high-pressure turbine (HPT) failure, resulting in debris penetrating the fuselage and the other engine. The FAA is issuing this AD to prevent failure of the HPT. The unsafe condition, if not addressed, could result in uncontained HPT failure, release of high-energy debris, damage to the engine, damage to the airplane, and possible loss of the airplane.

(f) Compliance

Comply with this AD within the compliance times specified, unless already done.

(g) Required Actions

Within 5 flight cycles after the effective date of this AD, remove from service the interstage seal, part number 2505M72P01 or 2448M33P01, with serial number GWN0PDTR, GWN0PE7T, GWN0PGEL, GWN0PL3N, GWN0PEFH, GWN0R4H0, GWN0R4GW, GWN0R8G8, GWN0RAD1, GWN0RDNM, GWN0RCMT, GWN0RJ69, GWN0RHRM, GWN0RN5A, GWN0W153, or GWN0W03P.

(h) Alternative Methods of Compliance (AMOCs)

(1) The Manager, ECO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (i) of this AD. You may email your request to: ANE-AD-AMOC@faa.gov.

(2) Before using any approved AMOC, notify your appropriate principal inspector, or lacking a principal inspector, the manager of the local flight standards district office/certificate holding district office.

(i) Related Information

For more information about this AD, contact Matthew C. Smith, Aerospace Engineer, ECO Branch, FAA, 1200 District Avenue, Burlington, MA 01803; phone: 781-238-7735; fax: 781-238-7199; Email: matthew.c.smith@faa.gov.

(j) Material Incorporated by Reference

None.

Issued in Burlington, Massachusetts, on February 7, 2020.
Robert J. Ganley,
Manager, Engine and Propeller Standards Branch, Aircraft Certification Service.

[FR Doc. 2020-02865 Filed 2-13-20; 8:45 am]

BILLING CODE 4910-13-P